ENVIRONMENTAL PROTECTION AGENCY

[EPA-HQ-OPP-2010-0209; FRL-8817-7]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by October 4, 2010 or May 7, 2010 for registrations for which the registrant requested a waiver of the 180-day comment period, orders will be issued canceling these registrations. The Agency will consider withdrawal requests postmarked no later than October 4, 2010 or May 7, 2010, whichever is applicable. Comments must be received on or before October 4, 2010 or May 7, 2010, for those registrations where the 180-day comment period has been waived.

ADDRESSES: Submit your comments and your withdrawal request, identified by docket identification (ID) number EPA-HQ-OPP-2010-0209, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Written Withdrawal Request, Attention : John Jamula, Information Technology and Resources Management Division (7502P).

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2010-0209. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 345 pesticide products registered under section 3 or 24(c) of FIFRA. These registrations are listed in sequence by registration number (or company number and 24(c) number) in Table 1 of this unit:

Table 1.—Registrations With Pending Requests for Cancellation
Registration no. | Product Name | Chemical Name
000004-00017 | Rotenone 1.0% Dust | Rotenone
000070-00269 | Rigo Neat'n Clean Extra Strength Systemic Weed + Grass | Glyphosate-isopropylammonium
000070-00284 | Rigo Neat'n Clean Concentrate Systemic Weed and Grass | Glyphosate-isopropylammonium
000100-00530 | Methidathion Technical | Methidathion
000100 AR-03-0009 | Fusilade Dx Herbicide | Propanoic acid, 2-(4-((5-(trifluoromethyl)-2-pyridinyl)oxy)phenoxy)-, butyl ester, (R)-
000100 AZ-96-0010 | Mefenoxam EC | D-Alanine, N-(2,6-dimethylphenyl)-N-(methoxyacetyl)-, methyl ester
000100 CA-01-0016 | Ridomil Gold EC | D-Alanine, N-(2,6-dimethylphenyl)-N-(methoxyacetyl)-, methyl ester
000100 CA-04-0009 | Ordram 8-E Selective Herbicide | Molinate
000100 CA-04-0010 | Ordram 8-E Selective Herbicide | Molinate
000100 CA-04-0011 | Ordram 8-E Selective Herbicide | Molinate
000100 CA-05-0013 | Scholar Fungicide | Fludioxonil
000100 CA-07-0004 | Ridomil Gold Sl | D-Alanine, N-(2,6-dimethylphenyl)-N-(methoxyacetyl)-, methyl ester
000100 CA-96-0011 | Mefenoxam EC | D-Alanine, N-(2,6-dimethylphenyl)-N-(methoxyacetyl)-, methyl ester
000100 DE-03-0006 | Ridomil Gold/copper | Copper hydroxide
|  | D-Alanine, N-(2,6-dimethylphenyl)-N-(methoxyacetyl)-, methyl ester
000100 GA-03-0002 | Dual Magnum Herbicide | S-Metolachlor
000100 ID-02-0028 | Warrior Insecticide with Zeon Technology | lambda-Cyhalothrin
000100 ID-06-0021 | Discover NG Herbicide | Clodinafop-propargyl (CAS Reg. No.105512-06-9)
000100 IL-04-0001 | Dual Magnum Herbicide | S-Metolachlor
000100 KY-09-0028 | Quadris Flowable Fungicide | Azoxystrobin
000100 LA-07-0005 | Endigo ZC | Thiamethoxam
|  | lambda-Cyhalothrin
000100 LA-98-0007 | Fusilade DX Herbicide | Propanoic acid, 2-(4-((5-(trifluoromethyl)-2-pyridinyl)oxy)phenoxy)-, butyl ester, (R)-
000100 MA-99-0002 | Dual Magnum Herbicide | S-Metolachlor
000100 MO-08-0005 | Callisto | Mesotrione
000100 MO-09-0005 | Callisto Herbicide | Mesotrione
000100 MS-07-0003 | Endigo ZC | Thiamethoxam
|  | lambda-Cyhalothrin
000100 MS-95-0012 | Fusilade DX Herbicide | Propanoic acid, 2-(4-((5-(trifluoromethyl)-2-pyridinyl)oxy)phenoxy)-, butyl ester, (R)-
000100 ND-03-0010 | Warrior Insecticide with Zeon Technology | lambda-Cyhalothrin
000100 OR-03-0002 | Warrior Insecticide with Zeon Technology | lambda-Cyhalothrin
000100 OR-06-0025 | Discover NG Herbicide | Clodinafop-propargyl (CAS Reg. No.105512-06-9)
000100 PR-04-0005 | Tilt 41.8% Fungicide | Propiconazole
000100 SD-08-0002 | Callisto Herbicide | Mesotrione
000100 SD-09-0004 | Callisto | Mesotrione
000100 TX-01-0008 | Ridomil Gold EC | D-Alanine, N-(2,6-dimethylphenyl)-N-(methoxyacetyl)-, methyl ester
000100 TX-03-0012 | Quadris | Azoxystrobin
000100 TX-04-0004 | Ordram 8-E AN Emulsifiable Liquid Herbicide | Molinate
000100 TX-04-0010 | Dual Magnum Herbicide | S-Metolachlor
000100 UT-07-0002 | Discover NG Herbicide | Clodinafop-propargyl (CAS Reg. No.105512-06-9)
000100 WA-06-0024 | Discover NG Herbicide | Clodinafop-propargyl (CAS Reg. No.105512-06-9)
000100 WA-07-0012 | Ridomil Gold SL | D-Alanine, N-(2,6-dimethylphenyl)-N-(methoxyacetyl)-, methyl ester
000100 WY-06-0006 | Discover NG Herbicide | Clodinafop-propargyl (CAS Reg. No.105512-06-9)
000192-00135 | Dexol Weedsol Non Selective Weed and Grass Killer | Prometon
000192-00177 | Dexol Weed &Grass Killer | Diquat dibromide
000192-00178 | Dexol Weed &Grass Killer Concentrate | Diquat dibromide
000192-00182 | Dexol Dog &Cat Repellent | Methyl nonyl ketone
000192-00184 | Dexol Hornet &Wasp Killer II | Phenothrin
|  | Tetramethrin
000192-00189 | Dexol Flying &Crawling Insect Killer II | Tetramethrin
|  | Phenothrin
000192-00196 | Dexel Flea Free Carpet Spray | Pyriproxyfen
|  | Tetramethrin
|  | Phenothrin
000228-00636 | Imida E-AG 5 F ST Insecticide | Imidacloprid
000228-00656 | ETI 105 28 I | Imidacloprid
000228-00668 | Imida E-Pro 4 F Pre/post Construction Insecticide | Imidacloprid
000228-00682 | ETI 105 12 I | Imidacloprid
000228-00691 | Imida E-Pro 0.5 -- Turf Insecticide | Imidacloprid
000228-00692 | Imida E-Pro 1% G -- ORN Insecticide | Imidacloprid
000228-00693 | Imida E-AG -- 4 F Cotton Insecticide | Imidacloprid
000228-00694 | Imida E-Ag 1.6 F Insecticide | Imidacloprid
000228-00696 | ET-O25 | Imidacloprid
000228-00697 | ET-024 | Imidacloprid
000228-00701 | Eti 105 25 I | Imidacloprid
000239-01349 | Ortho Sevin 5 Dust | Carbaryl
000239-02181 | Ortho Sevin Garden Dust | Carbaryl
000239-02628 | Ortho Sevin Liquid Brand Carbaryl Insecticide Formula I | Carbaryl
000241 ID-03-0017 | Prowl H2O Herbicide | Pendimethalin
000241 LA-04-0004 | Beyond Herbicide Clearfield Production System | Imazamox
000241 MN-08-0003 | Prowl H2O Herbicide | Pendimethalin
000241 MO-04-0003 | Beyond Herbicide | Imazamox
000241 MS-04-0016 | Beyond Herbicide | Imazamox
000241 NH-04-0001 | Arsenalapplicators Concentrate Herbicide | 2-(4,5-Dihydro-4-methyl-4-(1-methylethyl)-5-oxo-1H-imidazol-2-yl)-3-pyridinecarboxylic acid
000241 OR-03-0030 | Prowl H2O Herbicide | Pendimethalin
000241 TX-04-0003 | Raptor Herbicide | Imazamox
000241 WA-03-0037 | Prowl H2O Herbicide | Pendimethalin
000241 WA-99-0003 | Prowl 3.3 EC Herbicide | Pendimethalin
000279-03026 | Ammo Technical Insecticide | Cypermethrin
000279 CO-92-0001 | Furadan 4F Insecticide/nematicide | Carbofuran
000279 ID-91-0007 | Furadan 4F Insecticide/nematicide | Carbofuran
000279 OR-91-0006 | Furadan 4F | Carbofuran
000352 ID-02-0016 | Dupont Mankocide | Mancozeb
|  | Copper hydroxide
000352 OR-01-0029 | Direx 4l | Diuron
000352 OR-01-0030 | Direx 80DF | Diuron
000352 OR-01-0033 | Mankocide | Copper hydroxide
|  | Mancozeb
000352 PR-04-0002 | Dupont Assure II Herbicide | Propanoic acid, 2-?4-?(6-chloro-2-quinoxalinyl)oxyphenoxyU-, ethylester, (R)-
000352 WI-08-0004 | Dupont Coragen Insect Control | Chlorantraniliprole
000352 WY-05-0002 | Dupont Velpar L Herbicide | Hexazinone
000400 AL-08-0005 | Temprano | Abamectin
000400 AL-79-0017 | Vitavax-200 Flowable Fungicide (vitavax with Thiram) | Thiram
|  | Carboxin
000400 AL-91-0005 | Comite Agricultural Miticide | Propargite
000400 AZ-97-0004 | Comite Agricultural Miticide | Propargite
000400 GA-04-0002 | Dimilin 25W | Diflubenzuron
000400 GA-08-0005 | Temprano Miticide/insecticide | Abamectin
000400 GA-91-0003 | Comite Agricultural Miticide | Propargite
000400 ID-03-0012 | Terraclor Flowable Fungicide | Pentachloronitrobenzene
000400 MD-05-0002 | Acramite 50WS | Bifenazate
000400 NC-91-0007 | Comite Agricultural Miticide | Propargite
000400 NM-94-0001 | Comite II | Propargite
000400 OR-03-0022 | mite-6E | Propargite
000400 OR-07-0009 | Acramite-4SC | Bifenazate
000400 OR-07-0010 | Acramite-4SC | Bifenazate
000400 OR-07-0019 | Acramite-4SC | Bifenazate
000400 VA-04-0001 | Acramite 50WS | Bifenazate
000400 VA-91-0006 | Comite Agricultural Miticide | Propargite
000400 WA-91-0017 | Omite 6E | Propargite
000498-00116 | Chase-MM Flying Insect Killer Formula 2 | d-trans-Chrysanthemum monocarboxylic ester of dl-2-allyl-4-hydroxy-3-methyl-2-cyclopenten-1-
|  | Resmethrin
000498-00117 | Chase-MM House and Garden Insect Killer Formula 3 | Resmethrin
|  | d-trans-Chrysanthemum monocarboxylic ester of dl-2-allyl-4-hydroxy-3-methyl-2-cyclopenten-1-
000498-00177 | Spraypak Instutional Ant and Roach Residual Spray | Esfenvalerate
|  | Prallethrin
|  | MGK 264
000524-00152 | Granular Ramrod 20 | Propachlor
000524-00310 | Ramrod Flake | Propachlor
000524-00331 | Ramrod Flowable Herbicide | Propachlor
000538-00026 | Scotts Proturf Weedgrass Preventer | Bensulide
000538-00072 | Scotts Super Turf Builder Plus 2 for Grass | 2-4,D
|  | Mecoprop-P
000538-00083 | Scotts Shrub &Tree Weed Preventer Plus Fertilizer 20-4 | Trifluralin
000538-00102 | Stop Weeds Before They Start | Trifluralin
000538-00155 | Halts Plus Turf Builder | Bensulide
000538-00164 | Goosegrass/crabgrass Control | Oxadiazon
|  | Bensulide
000538-00167 | Super Plus 2 Weed Control Plus Lawn Fertilizer | 2-4,D
|  | Dicamba
|  | Mecoprop-P
000538-00183 | Proturf Fluid Fungicide | Iprodione
|  | Thiophanate-methyl
000538-00196 | Proturf Fertilizer Plus Turf Weedgrass Control | Pendimethalin
000538-00205 | Scotts Lawn Pro Weed &Feed Weed Control Plus Lawn Fertilizer | 2-4,D
|  | Mecoprop-P
000538-00208 | Fertilizer Plus Weed Control | Dicamba
|  | 2-4,D
000538-00209 | Turf Builder W/plus 2 for Lawns Plus Lawn Fertilizer | Dicamba
|  | 2-4,D
000538-00210 | Scotts Turf Builder Plus 2 for Lawns Plus Lawn Fertilizer | Dicamba
|  | 2-4,D
000538-00213 | Proturf Turf Fertilizer Plus Preemergent Weed Control | Pendimethalin
000538-00215 | Scotts Lawn Pro Weed and Feed | 2-4,D
|  | Mecoprop-P
000538-00227 | Fertilizer Plus Weedgrass Control | Pendimethalin
000538-00257 | Fertilizer Plus Preemergent Weed Control II | Oxadiazon
|  | Pendimethalin
000538-00294 | Grubex II | Benzoic acid, 4-chloro-, 2-benzoyl-2-(1,1-dimethylethyl)hydrazide
000748-00011 | Ecostern | Zinc pyrithione
000748-00068 | Para-Dichlorobenzene | Paradichlorobenzene
000748-00276 | PPG Algae Destroyer | Calcium hypochlorite
000769-00584 | R & M Flea &Tick Fogger #1 | Tetramethrin
|  | Esfenvalerate
000769-00598 | R & M Flea &Tick Shampoo #6 | MGK 264
|  | Phenothrin
|  | d-trans-Chrysanthemum monocarboxylic ester of dl-2-allyl-4-hydroxy-3-methyl-2-cyclopenten-1-
000769-00609 | R & M Aerosol Flying Insect Spray | Phenothrin
|  | Tetramethrin
000769-00713 | SMCP 3.73% Pramitol Vegetation Killer | Prometon
000769-00833 | Miller Mico Fume | Dazomet
000769-00898 | Pratt Triple X Na Weed Killer | 2,4-D, 2-ethylhexyl ester
|  | Prometon
000769-00931 | Drop Dead Household Fly &Insect Spray | Phenothrin
|  | Tetramethrin
000769-00971 | Sevin Brand 80% DB | Carbaryl
000769-00976 | Sevin Brand Carbaryl Insecticide 2% Granular Insecticide | Carbaryl
000869-00027 | Green Light 50% Malathion | Malathion
000869-00067 | Green Light Dormant Spray Also Summer Spray | Aliphatic petroleum solvent
000869-20202 | Green Light Roach Powder | Boric acid
000875-00097 | Accord II Iodine Detergent-Sanitizer and Germicide | Iodine
|  | Phosphoric acid
001021-01110 | Evergreen Growers Spray | Pyrethrins
001021-01735 | Evergreen Growers Spray 7439 | Pyrethrins
001021-01747 | Premium Pyganic 175 | Pyrethrins
001021-01843 | Permethrin 10% Pour on | Permethrin
001021-01844 | Permethrin 0.25% Granules | Permethrin
001021-01848 | Permethrin 3.2 MUP | Permethrin
001021-01849 | Permethrin 0.5%g Homeowner | Permethrin
001021-01850 | Permethrin 0.5%gc | Permethrin
001021 CA-02-0015 | Pyganic Crop Protection EC 1.4 | Pyrethrins
001381-00153 | Imperial 6% Malathion Grain Dust | Malathion
001381 AL-06-0002 | Arctic 3.2 EC | Permethrin
001381 AR-07-0014 | Arctic 3.2 EC | Permethrin
001381 FL-03-0008 | Pounce 3.2 EC Insecticide | Permethrin
001381 FL-06-0002 | Arctic 3.2 EC | Permethrin
001381 GA-05-0005 | Arctic 3.2 EC | Permethrin
001381 MS-05-0023 | Arctic 3.2 EC | Permethrin
001381 SC-05-0006 | Arctic 3.2 EC | Permethrin
001381 TN-05-0009 | Arctic 3.2 EC | Permethrin
001381 TX-06-0015 | Arctic 3.2 EC | Permethrin
001448-00085 | Busan 1020 | Metam-sodium
001448-00362 | Busan 1180 | Carbamodithioic acid, methyl-, monopotassium salt
001706-00216 | Nalcon DGH-M | Dodecylguanidine hydrochloride
001706-20002 | Nalco 92WT004 | Sodium hypochlorite
001839-00109 | 20% Veterinarian Type Disinfectant | Alkyl* dimethyl benzyl ammonium chloride *(60%C14, 30%C16, 5%C18, 5%C12)
|  | Alkyl* dimethyl ethylbenzyl ammonium chloride *(68%C12, 32%C14)
001839-00140 | BTC 495 | Alkyl* dimethyl benzyl ammonium chloride *(60%C14, 30%C16, 5%C18, 5%C12)
|  | Alkyl* dimethyl benzyl ammonium chloride *(67%C12, 25%C14, 7%C16, 1%C8, C10, and C18)
|  | 1-Decanaminium, N-decyl-N,N-dimethyl-, chloride
|  | Alkyl* dimethyl ethylbenzyl ammonium chloride *(68%C12, 32%C14)
001839-00143 | NP 11.0 HW (D &F) Detergent/disinfectant | 1-Decanaminium, N-decyl-N,N-dimethyl-, chloride
|  | 1-Octanaminium, N,N-dimethyl-N-octyl-, chloride
|  | 1-Decanaminium, N,N-dimethyl-N-octyl-, chloride
|  | Alkyl* dimethyl benzyl ammonium chloride *(50%C14, 40%C12, 10%C16)
001839-00145 | NP 7.0 (d & f) Detergent/disinfectant | 1-Decanaminium, N-decyl-N,N-dimethyl-, chloride
|  | Alkyl* dimethyl benzyl ammonium chloride *(50%C14, 40%C12, 10%C16)
|  | 1-Decanaminium, N,N-dimethyl-N-octyl-, chloride
|  | 1-Octanaminium, N,N-dimethyl-N-octyl-, chloride
001839-00147 | Np 22.0 HW (D & F) Detergent/disinfectant | 1-Decanaminium, N,N-dimethyl-N-octyl-, chloride
|  | 1-Octanaminium, N,N-dimethyl-N-octyl-, chloride
|  | Alkyl* dimethyl benzyl ammonium chloride *(50%C14, 40%C12, 10%C16)
|  | 1-Decanaminium, N-decyl-N,N-dimethyl-, chloride
002382-00125 | Duo-Cide Shampoo with D-Trans Allethrin and Sumithrin | Phenothrin
|  | MGK 264
|  | d-trans-Chrysanthemum monocarboxylic ester of dl-2-allyl-4-hydroxy-3-methyl-2-cyclopenten-1-
002382-00126 | Duocide L.A. | Pyrethrins
|  | MGK 264
|  | Permethrin
002596-00028 | Hartz Indoor and Outdoor No | Methyl nonyl ketone
002596-00053 | Hartz Outdoor No Non-Aerosol Fine Mist Spray | Methyl nonyl ketone
002596-00056 | Hartz Indoor No Non-Aerosol Fine Mist Spray | Methyl nonyl ketone
002596-00152 | Hartz Ref. 120 | Phenothrin
002724-00527 | Speer Home and Garden Pressurized Spray | Resmethrin
|  | d-trans-Chrysanthemum monocarboxylic ester of dl-2-allyl-4-hydroxy-3-methyl-2-cyclopenten-1-
002724-00555 | Speer Bee, Wasp, Hornet &Yellow Jacket Jet-Stream Kill | Phenothrin
|  | d-trans-Chrysanthemum monocarboxylic ester of dl-2-allyl-4-hydroxy-3-methyl-2-cyclopenten-1-
002724-00584 | SPI Total Release Aerosol Fogger II | d-trans-Chrysanthemum monocarboxylic ester of dl-2-allyl-4-hydroxy-3-methyl-2-cyclopenten-1-
|  | Esfenvalerate
002724-00585 | Spi Flea and Tick Dip for Dogs. | MGK 264
|  | Phenothrin
002724-00610 | Super Swat II Fly Repellent | Butoxypolypropylene glycol
|  | MGK 264
|  | Phenothrin
|  | Tetramethrin
002724-00673 | Speer Ant and Roach Killer II | Prallethrin
|  | MGK 264
|  | Esfenvalerate
002724-00676 | Speer-It Fogger IV Total Release Aerosol | Tetramethrin
|  | Esfenvalerate
|  | MGK 264
002724-00680 | SPI Deltamethrin Aerosol Insecticide | Deltamethrin
|  | S-Bioallethrin
002724-00685 | Chaperone Squirrel and Bat Repellent | Naphthalene
002724-00770 | Flea Stop Linatoc Dip | MGK 264
|  | Prallethrin
|  | Linalool
002792 CO-07-0001 | Decco 271 Aerosol | Chlorpropham
002792 ID-06-0022 | Decco 271 Aerosol | Chlorpropham
002792 ME-03-0001 | Decco 271 Aerosol | Chlorpropham
002792 MN-06-0004 | Decco 271 Aerosol | Chlorpropham
002792 ND-06-0007 | Decco 271 Aerosol | Chlorpropham
002792 WI-07-0002 | Decco 271 Aerosol | Chlorpropham
002935 MA-06-0001 | Diazinon 14G | Diazinon
002935 WI-06-0004 | Diazinon 14G | Diazinon
004581 NY-08-0006 | Hydrothol 191 Granular Aquatic Algicide and Herbicide | Endothall, mono(N,N,-dimethyl alkyl amine) salt
004581 NY-08-0007 | Hydrothol 191 Aquatic Algicide and Herbicide | Endothall, mono(N,N,-dimethyl alkyl amine) salt
004822-00172 | Raid Household Flying Insect Killer Formula 3 | Phenothrin
|  | d-trans-Chrysanthemum monocarboxylic ester of dl-2-allyl-4-hydroxy-3-methyl-2-cyclopenten-1-
004822-00173 | Raid Household Flying Insect Killer Formula 4 | d-Allethrin
|  | Phenothrin
004822-00290 | Raid House and Garden Bug Killer Formula 6 | Phenothrin
|  | d-trans-Chrysanthemum monocarboxylic ester of dl-2-allyl-4-hydroxy-3-methyl-2-cyclopenten-1-
004822-00300 | Raid Mosquito Coils | d-trans-Chrysanthemum monocarboxylic ester of dl-2-allyl-4-hydroxy-3-methyl-2-cyclopenten-1-
004822-00437 | Off! Repellent DH | d-Allethrin
004822-00463 | Whitmire Insecticidal Shampoo for Dogs | d-trans-Chrysanthemum monocarboxylic ester of dl-2-allyl-4-hydroxy-3-methyl-2-cyclopenten-1-
|  | MGK 264
|  | Phenothrin
004822-00465 | P/P Flea &Tick Spray No. 2 | Tetramethrin
|  | Phenothrin
005481-08989 | Terraclor Super-X Soil Fungicide W/ Di-Syston | Disulfoton
|  | Pentachloronitrobenzene
|  | Etridiazole
005785-00007 | Brom-O-Gas contains 1% | Methyl bromide
005785-00008 | Brom-O-Gas 0.5% | Methyl bromide
005785-00013 | Brom-O-Sol | Methyl bromide
005785-00055 | Brom-O-Gas(r) 0.25% | Methyl bromide
005785-00069 | Agribrom Tablets | 2,4-Imidazolidinedione, 1-bromo-3-chloro-5,5-dimethyl-
005785-00070 | Agribrom Granules | 2,4-Imidazolidinedione, 1-bromo-3-chloro-5,5-dimethyl-
005785-00109 | Methyl Bromide 99.5 | Methyl bromide
005785 CA-90-0033 | Agribrom Granules | 2,4-Imidazolidinedione, 1-bromo-3-chloro-5,5-dimethyl-
005887-00043 | Black Leaf 5% Sevin Garden Dust Insecticide | Carbaryl
005887-00118 | Black Leaf Fog-It 1 Shot Automatic Insecticide Fogger | Tetramethrin
|  | Phenothrin
005887-00123 | Black Leaf Fly &Mosquito Formula III Spray | Tetramethrin
|  | Phenothrin
005887-00126 | Black Leaf White Fly &Mealy Bug Spray | Phenothrin
005887-00158 | Black Leaf Wasp and Hornet Killer Formula IV | Tetramethrin
|  | Phenothrin
005887-00159 | Black Leaf Flying &Crawling Insect Killer | Tetramethrin
|  | Phenothrin
005887-00163 | Black Leaf Liquid Copper Fungicide | Copper salts of fatty and rosin acids
007173-00245 | Maki Bait Station | Bromadiolone
007173-00253 | Generation Bait Station | Difethialone
007173 CO-06-0009 | Rozol Prairie Dog Bait | Chlorophacinone
007173 KS-07-0003 | Rozol Prairie Dog Bait | Chlorophacinone
007173 NE-06-0001 | Rozol Prairie Dog Bait | Chlorophacinone
007173 OK-08-0002 | Rozol Prairie Dog Bait | Chlorophacinone
007173 TX-07-0008 | Rozol Prairie Dog Bait | Chlorophacinone
007173 WY-07-0005 | Rozol Prairie Dog Bait | Chlorophacinone
007313-00011 | Amercoat 277e Marine Antifouling Paint | Cuprous oxide
007401-00337 | Hi-Yield Vitamin B1 | 1-Naphthaleneacetic acid
007401 MS-90-0023 | 2,4-D Amine Type Weed Killer | 2,4-D, dimethylamine salt
007401 MS-97-0007 | Weedar 64 (r) Broadleaf Herbicide | 2,4-D, dimethylamine salt
007401 MS-98-0008 | Weedar 64 Broadleaf Herbicide | 2,4-D, dimethylamine salt
007969 NV-96-0002 | Basagran Herbicide | 3-Isopropyl-1H-2,1,3-benzothiadiazin-4(3H)-one-2,2-dioxide, sodium salt
007969 SD-06-0001 | Establish Life Herbicide | dimethenamide-P
|  | Atrazine
007969 TN-09-0005 | Paramount Herbicide | Quinclorac
008898-00017 | Euretin TBTO | Tributyltin oxide
009198-00164 | The Anderson 0.1% Deltagard Lawn Insect Granules | Deltamethrin
009688-00041 | Chemsico Dual Flea Control | d-trans-Chrysanthemum monocarboxylic ester of dl-2-allyl-4-hydroxy-3-methyl-2-cyclopenten-1-
|  | MGK 264
|  | Phenothrin
009688-00051 | Chemsico Automatic Insect Fogger “B” | MGK 264
|  | d-trans-Chrysanthemum monocarboxylic ester of dl-2-allyl-4-hydroxy-3-methyl-2-cyclopenten-1-
|  | Phenothrin
009688-00151 | Tralex Aerosol | MGK 264
|  | d-trans-Chrysanthemum monocarboxylic ester of dl-2-allyl-4-hydroxy-3-methyl-2-cyclopenten-1-
|  | Tralomethrin
009779-00355 | Sprout-Gard | Dithiopyr
009779-00356 | Sprout-Gard II | Dithiopyr
009779-00361 | Sprout-Gard AR | Dithiopyr
009779 LA-98-0005 | Prometryne 4l Herbicide | Prometryn
009779 MS-96-0013 | Prometryne 4l Herbicide | Prometryn
010163-00123 | Gowan Pcnb 10% Granular | Pentachloronitrobenzene
010163-00222 | Prefar 6-E Herbicide | Bensulide
010163-00240 | Hexygon Ovicide/miticide | Hexythiazox
010163 CA-06-0025 | Eptam 7-E | Carbamothioic acid, dipropyl-, S-ethyl ester
010163 ID-06-0001 | Eptam 7-E (for Enhabced Control of Annual/perennial Grass | Carbamothioic acid, dipropyl-, S-ethyl ester
010163 LA-04-0006 | Imidan 2.5-EC | Phosmet
010163 MS-04-0017 | Imidan 2.5-EC | Phosmet
010163 NC-02-0004 | Imidan 2.5-EC | Phosmet
010163 SC-95-0006 | Imidan 70-Wp Agricultural Insecticide | Phosmet
010900-00056 | 882 Spray Disinfectant | Alkyl* dimethyl benzyl ammonium chloride *(60%C14, 30%C16, 5%C18, 5%C12)
|  | Alkyl* dimethyl ethylbenzyl ammonium chloride *(68%C12, 32%C14)
010900-00077 | 855 Dog &Cat Repellent | Methyl nonyl ketone
028293-00042 | Unicorn Ear Mite Control | Rotenone
028293-00107 | Unicorn Liquid Insect Killer No.2 | Resmethrin
028293-00152 | Unicorn Flea &Tick Spray IV | d-trans-Chrysanthemum monocarboxylic ester of dl-2-allyl-4-hydroxy-3-methyl-2-cyclopenten-1-
|  | Resmethrin
035935-00064 | ET-016 | Imidacloprid
042750-00043 | Albaugh Dicamba Sodium Salt | Dicamba, sodium salt
045385-00013 | Chem-Tox Industrial Insect Spray contains Baygon | Propoxur
053883-00129 | Propiconazole Pro | Propiconazole
059639 AR-05-0005 | Orthene 90S | Acephate
059639 AR-89-0008 | Orthene 90 S | Acephate
059639 CO-00-0006 | Orthene 97 Pellets | Acephate
059639 ID-06-0099 | Orthene 97 Pellets | Acephate
059639 LA-05-0004 | Orthene 90S | Acephate
059639 LA-96-0004 | Valent Bolero 10 G | Thiobencarb
059639 MI-08-0002 | Orthene Turf, Tree &Ornamental Spray 97 | Acephate
059639 MO-02-0002 | Valor Herbicide | Flumioxazin
059639 MS-93-0011 | Valent Bolero 10 G | Thiobencarb
059639 MS-97-0010 | Orthene 90 S | Acephate
059639 OH-97-0007 | Orthene Turf, Tree &Ornamental Spray WSP | Acephate
059639 OK-89-0002 | Orthene 90 S | Acephate
059639 OR-05-0014 | Zeal Miticide | Etoxazole
059639 TX-79-0014 | Orthene 75 S Soluble Powder | Acephate
059639 TX-91-0003 | Orthene 90 S | Acephate
059639 TX-93-0024 | Valent Bolero 10 G | Thiobencarb
059639 TX-94-0001 | Orthene 90 S | Acephate
060063-00038 | TPTH 80 WP | Fentin hydroxide
061483-00013 | Daconate | MSMA (and salts)
061483-00014 | Daconate 6 | MSMA (and salts)
061483-00015 | Bueno-6 | MSMA (and salts)
061483-00017 | Daconate Super Brand | MSMA (and salts)
061483-00018 | Bueno | MSMA (and salts)
066222 MS-04-0003 | Chlorpyrifos 4E AG | Chlorpyrifos
066222 OR-01-0027 | Galigan 2E | Oxyfluorfen
066222 UT-05-0001 | Rimon 0.83 EC | Novaluron
067517-00013 | Space Mist Insecticide | Resmethrin
067517-00041 | Rose and Flower Spray | Pyrethrins
|  | Piperonyl butoxide
067517-00042 | Tomato and Vegetable Spray | Piperonyl butoxide
|  | Pyrethrins
067517-00043 | Fly-A-Rest AQ | Pyrethrins
|  | Piperonyl butoxide
067517-00051 | Flea and Tick Spray | Permethrin
|  | Pyrethrins
067517-00080 | Permethrin 10% Oil Base Concentrate | Permethrin
067760-00051 | Glyfos Ready-To-Use 0.75% Weed &Grass Killer | Glyphosate-isopropylammonium
067760-00052 | Glyfos Concentrate 5% Weed &Grass Killer | Glyphosate-isopropylammonium
067760-00053 | Glyfos Concentrate 16.5% Weed &Grass Killer | Glyphosate-isopropylammonium
067760-00054 | Glyfos Concentrate 7.5% Weed &Grass Killer | Glyphosate-isopropylammonium
067760-00062 | Glyfos Ready-To-Use 1.25% Weed and Grass Killer | Glyphosate-isopropylammonium
067760-00063 | Glyfos Concentrate 20% Weed and Grass Killer | Glyphosate-isopropylammonium
068708-00001 | EC6114A | 5-Chloro-2-methyl-3(2H)-isothiazolone
|  | 2-Methyl-3(2H)-isothiazolone
068708-00002 | EC6113A | Hexahydro-1,3,5-tris(2-hydroxyethyl)-s-triazine
069592-00014 | QST 20799 Technical | Muscodor albus strain QST 20799
069592-00015 | Arabesque | Muscodor albus strain QST 20799
069592-00017 | Andante | Muscodor albus strain QST 20799
069592-00018 | Glissade | Muscodor albus strain QST 20799
069592 CA-04-0014 | Serenade ASO | QST 713 strain of bacillus subtilis
069592 PR-06-0001 | Serenade ASO | QST 713 strain of bacillus subtilis
069592 PR-06-0002 | Serenade ASO | QST 713 strain of bacillus subtilis
070506-00079 | Agvalue Picloram Technical | Picloram
070506-00080 | Picloram 22 | Picloram-potassium
070506-00081 | Picloram 2 | Picloram-potassium
070506-00203 | Tebuconazole 3.6fl Liquid Flowable Fungicide | Tebuconazole
070506-00204 | Tebuconazole 45 WDG | Tebuconazole
070506 AL-85-0008 | Aquathol K | Endothal-dipotassium
070506 FL-96-0015 | Aquathol K Aquatic Herbicide | Endothal-dipotassium
070506 GA-95-0006 | Aquathol K | Endothal-dipotassium
070506 MN-07-0002 | Dupont Super Tin 80WP Fungicide | Fentin hydroxide
070506 MN-07-0003 | Dupont Super Tin 4l Fungicide | Fentin hydroxide
070506 MT-07-0001 | Dupont Super Tin 80WP Fungicide | Fentin hydroxide
070506 ND-06-0006 | Dupont Super Tin 80wp Fungicide | Fentin hydroxide
070506 NY-98-0002 | Aquathol K Aquatic Herbicide | Endothal-dipotassium
070506 NY-99-0003 | Aquathol Super K Granular Aquatic Herbicide | Endothal-dipotassium
070506 SC-93-0001 | Aquathol K | Endothal-dipotassium
070506 TX-06-0006 | Aquathol Super K Aquatic Herbicide | Endothal-dipotassium
070506 TX-06-0007 | Aquathol K Aquatic Herbicide | Endothal-dipotassium
070506 TX-06-0009 | Hydrothol 191 Granular Aquatic Algicide and Herbicide | Endothall, mono(N,N,-dimethyl alkyl amine) salt
070506 TX-06-0010 | Hydrothol 191 Aquatic Algicide and Herbicide | Endothall, mono(N,N,-dimethyl alkyl amine) salt
070506 TX-06-0011 | Accelerate A Harvest Aid for Cotton | Endothall
070506 TX-81-0032 | Accelerate A Harvest Aid for Cotton | Endothall, mono(N,N,-dimethyl alkyl amine) salt
070506 TX-99-0002 | Aquathol K Aquatic Herbicide | Endothal-dipotassium
070506 TX-99-0004 | Aquathol Super K Granular Aquatic Herbicide | Endothal-dipotassium
070506 TX-99-0005 | Hydrothol 191 Granular Aquatic Algicide and Herbicide | Endothall, mono(N,N,-dimethyl alkyl amine) salt
070506 TX-99-0006 | Hydrothol 191 | Endothall, mono(N,N,-dimethyl alkyl amine) salt
071711 ID-04-0008 | Moncut SC | Flutolanil
071711 TX-02-0005 | Applaud 70WP | Buprofezin
071711 VA-02-0001 | Applaud 70WP | Buprofezin
071711 WA-01-0016 | Moncut 50WP | Flutolanil
073049-00078 | SBP-1382 Concentrate 40 | Resmethrin
073049-00079 | SBP-1382 Insecticide Concentrate 15% | Resmethrin
073049-00080 | SBP-1382 Pressurized Wasp &Hornet Spray 0.15% | Resmethrin
073049-00197 | CSA Residual F &T Spray for Dogs and Cats | Permethrin
|  | Pyrethrins
080225 AZ-05-0004 | Eptam 7-E | Carbamothioic acid, dipropyl-, S-ethyl ester
081824-00009 | Borathor Plus | Boron sodium oxide (B8Na2O13), tetrahydrate (12280-03-4)
083558-00012 | Hexazinone Technical | Hexazinone

Unless a request is withdrawn by the registrant within 180 days of publication of this notice, orders will be issued canceling all of these registrations. Users of these pesticides or anyone else desiring the retention of a registration should contact the applicable registrant directly during this 180-day period.

Table 2 of this unit includes the names and addresses of record for all registrants of the products in Table 1 of this unit, in sequence by EPA company number:

Table 2—Registrants Requesting Voluntary Cancellation
EPA Company no. | Company Name and Address
000004 | Registrations By Design Inc., Agent For: Bonide Products, Inc., P.O.Box 1019, Salem, VA 241533805.
000070 | Value Gardens Supply, LLC, d/b/a Garden Value Supply, P.O.Box 585, Saint Joseph, MO 64502.
000100 | Syngenta Crop Protection, Inc., Attn: Regulatory Affairs, P.O.Box 18300, Greensboro, NC 274198300.
000192 | Value Gardens Supply, LLC, d/b/a Value Garden Supply, P.O.Box 585, Saint Joseph, MO 64502.
000228 | Nufarm Americas Inc., 150 Harvester Drive, Suite 200, Burr Ridge, IL 60527.
000239 | The Scotts Co., d/b/a The Ortho Group, P.O.Box 190, Marysville, OH 43040.
000241 | BASF Corp., P.O.Box 13528, Research Triangle Park, NC 277093528.
000279 | FMC Corp. Agricultural Products Group, Attn: Michael C. Zucker, 1735 Market St, Rm 1978, Philadelphia, PA 19103.
000352 | E. I. Du Pont De Nemours & Co., Inc. (s300/419), Attn: Manager, US Registration, Dupont Crop Prote, 1007 Market Street, Wilmington, DE 198980001.
000400 | Chemtura Corp., Attn: Crop Registration, 199 Benson Rd. (2-5), Middlebury, CT 06749.
000498 | Chase Products Co, Putting The Best At Your Fingertips, P.O.Box 70, Maywood, IL 60153.
000524 | Monsanto Co., Agent For: Monsanto Co., 1300 I Street, NW, Suite 450 E., Washington, DC 20005.
000538 | Scotts Co., The, 14111 Scottslawn Rd, Marysville, OH 43041.
000748 | Keller & Heckman, LLP, Agent For: PPG Industries, Inc., 1001 G Street, NW., Suite 500 W., Washington, DC 20001.
000769 | Value Gardens Supply, LLC, d/b/a Value Garden Supply, P.O.Box 585, Saint Joseph, MO 64502.
000869 | Valent GL Corp., c/o Valent Usa Corp., Agent For: Green Light Co., 1600 Riviera Ave. Suite 200, Walnut Creek, CA 94596.
000875 | Johnsondiversey, Inc., P.O.Box 902, Sturtevant, WI 53177.
001021 | Mclaughlin Gormley King Co, d/b/a MGK, 8810 Tenth Ave North, Minneapolis, MN 554274319.
001381 | Winfield Solutions, LLC, P.O.Box 64589, St. Paul, MN 551640589.
001448 | Buckman Laboratories Inc., 1256 North Mclean Blvd, Memphis, TN 38108.
001706 | Nalco Co., 1601 W. Diehl Rd., Naperville, IL 605631198.
001839 | Stepan Co., 22 W. Frontage Rd., Northfield, IL 60093.
002382 | Bracewell & Giuliani LLP, Agent For: Virbac AH, Inc., 1445 Ross Ave. Suite 3800, Dallas, TX 75202.
002596 | The Hartz Mountain Corp., Attn: Robert Rosenwasser, 400 Plaza Drive, Secaucus, NJ 07094.
002724 | Wellmark International, 1501 E. Woodfield Rd., Suite 200 W., Schaumburg, IL 60173.
002792 | Decco US Post-Harvest, Inc., 1713 South California Ave., Monrovia, CA 910160120.
002935 | Wilbur Ellis Co., P.O.Box 1286, Fresno, CA 93715.
004581 | Cerexagri, Inc., 630 Freedom Business Center, Suite 402, King Of Prussia, PA 19406.
004822 | S.C. Johnson & Son Inc., 1525 Howe Street, Racine, WI 53403.
005481 | Amvac Chemical Corp., d/b/a Amvac, 4695 Macarthur Ct., Suite 1250, Newport Beach, CA 926601706.
005785 | Great Lakes Chem Corp., Director of Regulatory Affairs, P.O.Box 2200, West Lafayette, IN 479962200.
005887 | Value Gardens Supply, LLC, d/b/a Value Garden Supply, P.O.Box 585, Saint Joseph, MO 64502.
007173 | Liphatech, Inc., 3600 W. Elm Street, Milwaukee, WI 53209.
007313 | PPG Industries, Inc., Agent For: PPG Architectural Finishes, Inc., 4325 Rosanna Drive, Allison Park, PA 15101.
007401 | Mandava Associates, LLC, Agent For: Voluntary Purchasing Groups, Inc., 6860 N. Dallas Pkwy., Suite 200, Plano, TX 75024.
007969 | BASF Corp., Agricultural Products, P.O.Box 13528, Research Triangle Park, NC 277093528.
008898 | Chemtura Corp. - Organometallic Specialties, Attn: Willard Cummings (mail Code 2-4), 199 Benson Rd., Middlebury, CT 06749.
009198 | The Andersons Lawn Fertilizer Division, Inc., dba/ Free Flow Fertilizer, P.O.Box 119, Maumee, OH 43537.
009688 | Chemsico, Div of United Industries Corp., P.O.Box 142642, St Louis, MO 631140642.
009779 | Winfield Solutions, LLC, P.O.Box 64589, St Paul, MN 551640589.
010163 | Gowan Co, P.O.Box 5569, Yuma, AZ 853665569.
010900 | Sherwin-Williams Diversified Brands, 101 Prospect Ave., Cleveland, OH 44115.
028293 | Registrations By Design, Inc., Agent For: Phaeton Corp., P.O.Box 1019, Salem, VA 24153.
035935 | Nufarm Limited, Agent For: Nufarm Limited, P.O.Box 13439, Reseacrch Triangle Park, NC 27709.
042750 | Albaugh Inc., 1525 NE 36th Street, Ankeny, IA 50021.
045385 | H.R. Mclane, Inc., Agent For: CTX-Cenol, Inc., 7210 Red Rd., Suite 206a, Miami, FL 33143.
053883 | D. O'shaughnessy Consulting, Inc., Agent For: Control Solutions, Inc., 427 Hide Away Circle, Cub Run, KY 42729.
059639 | Valent U.S.A. Corp., 1600 Riviera Ave. Suite 200, Walnut Creek, CA 94596.
060063 | Sipcam Agro USA, Inc., 2520 Meridian Pkwy., Suite 525, Durham, NC 27713.
061483 | Kmg-Bernuth, Inc., 9555 W. Sam Houston Pkwy South, Suite 600, Houston, TX 77099.
066222 | Makhteshim-Agan of North America Inc., 4515 Falls of Neuse Rd, Suite 300, Raleigh, NC 27609.
067517 | Virbbac AH, Inc., Agent For: PM Resources Inc., P.O. Box 162059, Fort Worth, TX 76161.
067760 | Cheminova, Inc., 1600 Wilson Blvd., Suite 700, Arlington, VA 22209.
068708 | Nalco Co., Agent For: Nalco Co., 1601 W. Diehl Rd, Naperville, IL 60563.
069592 | Agraquest Inc., 1540 Drew Ave., Davis, CA 956186320.
070506 | United Phosphorus, Inc., 630 Freedom Business Center, Suite 402, King Of Prussia, PA 19406.
071711 | Nichino America, Inc., 4550 New Linden Hill Rd., Suite 501, Wilmington, DE 19808.
073049 | Valent Biosciences Corp., 870 Technology Way, Suite 100, Libertyville, IL 600486316.
080225 | Gowan Co., Agent For: Isilya Group Ltd., P.O.Box 5569, Yuma, AZ 85364.
081824 | Pyxis Regulatory Consulting, Inc., Agent For: Ensystex II, Inc., 4110 136th St, NW, Gig Harbor, WA 98332.
083558 | Mana, Inc., Agent For: Celsius Property B.V., Amsterdam (nl), 4515 Falls of Neuse Rd., Suite 300, Raleigh, NC 27609.

A request to waive the 180-day comment period has been received for the following registrations: 001706-000216; 001706-20002; 060063-00038; 68708-00001; 68708-00002.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before October 4, 2010. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

Existing stocks are those stocks of registered pesticide products which are currently in the United States and which were packaged, labeled, and released for shipment prior to the effective date of the cancellation action. EPA's existing stocks policy (56 FR 29362) provides that: “If a registrant requests to voluntarily cancel a registration where the Agency has identified no particular risk concerns, the registrant has complied with all applicable conditions of reregistration, conditional registration, and data call ins, and the registration is not subject to a Registration Standard, Label Improvement Program, or reregistration decision, the Agency will generally permit a registrant to sell or distribute existing stocks for 1 year after the cancellation request was received. Persons other than registrants will generally be allowed to sell, distribute, or use existing stocks until such stocks are exhausted.”

Upon cancellation of the pesticides identified in Table 1, EPA anticipates allowing sale, distribution and use as described above. Exception to this general policy will be made in specific cases when more stringent restrictions on sale, distribution, or use of the products or their ingredients have already been imposed, as in a special review action, or where the Agency has identified significant potential risk concerns associated with a particular chemical.

List of Subjects

Environmental protection, Pesticides and pests.

Dated: March 29, 2010.
Chandler Sirmons,
Acting Director, Information Technology and Resources Management Division, Office of Pesticide Programs.

[FR Doc. 2010-7880 Filed 4-6-2010; 8:45 am]

BILLING CODE 6560-50-S